DEPARTMENT OF ENERGY

Federal Energy Regulatory Commission

[Project No. 13994-000]

Public Utility No. 1 of Snohomish County, WA; Notice of Preliminary Permit Application Accepted for Filing and Soliciting Comments, Motions To Intervene, and Competing Applications

On January 4, 2011, the Public Utility No. 1 of Snohomish County, Washington filed an application for a preliminary permit, pursuant to section 4(f) of the Federal Power Act (FPA), proposing to study the feasibility of the Hancock Creek Hydroelectric Project (project) to be located on Hancock Creek, near North Bend in King County, Washington. The sole purpose of a preliminary permit, if issued, is to grant the permit holder priority to file a license application during the permit term. A preliminary permit does not authorize the permit holder to perform any land-disturbing activities or otherwise enter upon lands or waters owned by others without the owners' express permission.

The proposed project would consist of the following: (1) A 7-foot-high, 62-foot-long diversion weir and intake structure; (2) an impoundment having a total storage capacity of one acre-foot at a normal maximum operating elevation of 2,171 feet mean sea level; (3) a 7,800-foot-long, 38-inch-diameter buried penstock; (4) a 2,600-square-foot powerhouse containing a single turbine/generator unit with an installed capacity of 6.0 megawatts; (5) a 125-foot-long, 10-foot-wide rip-rap open channel tailrace; (6) a switchyard containing a 4.16/34.5 three-phase step-up transformer; (7) a 2,000-foot-long, 34.5 kilovolt three-phase buried transmission line; and (8) appurtenant facilities. The estimated annual generation of the project would be 21,857.7 megawatt-hours.

Applicant Contact: Mr. Kim D. Moore, Assistant General Manager of Generation Resources; Public Utility No. 1 of Snohomish County; 2320 California Street; Everett, WA 98201; phone: 425-783-8606.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13994-000) in the docket number field to access the document. For assistance, contact FERC Online Support.

Dated: February 25, 2011.
Kimberly D. Bose,
Secretary.

[FR Doc. 2011-4962 Filed 3-3-11; 8:45 am]

BILLING CODE 6717-01-P